DEPARTMENT OF TRANSPORTATION

Federal Aviation Administration

14 CFR Part 71

[Docket No. FAA-2007-29055; Airspace Docket 07-ASO-19]

Amendment of Class D and E Airspace; Jacksonville Cecil Field, FL

AGENCY: Federal Aviation Administration (FAA), DOT.

ACTION: Final rule.

SUMMARY: This action amends the Class D airspace and establishes Class E airspace at Jacksonville Cecil Field, FL. An evaluation determined the Class D airspace should be modified and a required Class E surface airspace extension be established. This rule increases the safety and efficiency of the National Airspace System enhancing operations with adjacent Jacksonville Whitehouse Naval Out Lying Field (NOLF), Jacksonville Naval Air Station (NAS) and the Jacksonville Herlong Airport. This action additionally supports the Standard Instrument Approach Procedures at Cecil Field by the establishment of a Class E4 airspace extension to the Class D.

DATES: Effective 0901 UTC, June 05, 2008. The Director of the Federal Register approves this incorporation by reference action under title 1, Code of Federal Regulations, part 51, subject to the annual revision of FAA Order 7400.9 and publication of conforming amendments.

FOR FURTHER INFORMATION CONTACT: Daryl Daniels, System Support, Eastern Service Center, Federal Aviation Administration, P.O. Box 20636, Atlanta, Georgia 30320; telephone (404) 305-5581.

SUPPLEMENTARY INFORMATION:

History

On December 10, 2007, the FAA published in the Federal Register a NPRM to amend the Class D and E airspace at Jacksonville Cecil Field, FL (72 FR 69640). Airspace evaluation identified the ability to reduce the size of the current Class D airspace while continuing to provide adequate support for the Standard Instrument Approach Procedures (SlAP) and by the establishment a Class E surface area at Jacksonville Cecil Field. The airspace was also adjusted to allow neighboring Herlong Airport adequate airspace for its operations and a demarcation line was established between Jacksonville Cecil's and Jacksonville Whitehouse NOLF's Class D Airspace. This action will establish permanent geographic dimensions for the Class D airspace which will be independent of the surrounding airports Class D/Tower operation.

Interested parties were invited to participate in this proposed rulemaking by submitting such written data, views or arguments, as they may have desired on the proposal to the FAA. Minor adjustments were made to the description to enhance charting. No comments objecting to the proposal were received.

The Rule

This amendment to Title 14, Code of Federal Regulations (14 CFR) part 71 modifies Class D airspace and establishes Class E4 airspace at Jacksonville Cecil Field, FL by reducing the Class D airspace area to a 4.3-mile radius of Cecil Field excluding: (1) That airspace within a 1 .8-mile radius of Herlong Airport, (2) that airspace north of the demarcation line between Jacksonville Cecil Field's and Jacksonville Whitehouse's Class D airspace, and (3) that airspace designated as the Jacksonville NAS Class D airspace. Additionally, this action provides controlled airspace extending upwards for the surface of the Earth to support the VHF Omnidirectional Range (VOR) Runway (RWY) 9 Standard Instrument Approach Procedure (SlAP) at Cecil Field.

Class D and E4 airspace designations for airspace areas extending upwards from the surface of the Earth are published in Paragraph 5000 and 6004 of FAA Order 7400.9R, dated August 15, 2007, and effective September 15, 2007, which is incorporated by reference in 14 CFR 71.1. The Class D and E4 airspace designations listed in this document will be published subsequently in the Order.

Agency Findings

The regulations adopted herein will not have substantial direct effects on the States, on the relationship between the national government and the States, or on the distribution of power and responsibilities among various levels of government. Therefore, it is determined that this final rule does not have federalism implications under Executive Order 13132.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it modifies the Class D and establishes Class E4 airspace at Jacksonville Cecil Field.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; ED. 10854, 24 FR 9565, 3 CFR, 1959-1963 Comp., p. 389.

§ 71.1 [Amended]

2. The incorporation by reference in 14 CFR 71.1 of Federal Aviation Administration Order 7400.9R, Airspace Designations and Reporting Points, dated August 15, 2007, and effective September 15, 2007, is amended as follows:

Paragraph 5000 Class D Airspace.

* * * * *

ASO FL D Jacksonville Cecil Field, FL [Revised]

Cecil Field, FL

(Lat. 30°13′07″ N., long. 81°52′36″ W.)

Jacksonville NAS, FL

(Lat. 30°14′09″ N., long. 81°40′50″ W.)

Whitehouse NOLF, FL

(Lat. 30°21′01″ N., long. 81°52′59″ W.)

Herlong Airport

(Lat. 30°16′40″ N., long. 81°48′21″ W.)

That airspace extending upward from the surface of the Earth, to and including 2,600 feet MSL, within a 4.3-mile radius of Cecil Field; excluding that airspace within the Jacksonville NAS Class D airspace area, excluding that airspace north of a line from lat. 30°17′00″ N., long. 81°50′24″ W. to lat. 30°17′00″ N., long. 81°54′47″ W., which abuts the Jacksonville Whitehouse NOLF Class D airspace, and excluding that airspace within a 1.8-mile radius of Herlong Airport. This Class D airspace area is effective during the specific days and times established in advance by a Notice to Airmen. The effective days and times will thereafter be continuously published in the Airport/Facility Directory.

* * * * *

Paragraph 6004 Class E Airspace Areas Designated as an Extension to a Class D Surface Area.

* * * * *

ASO FL E4 Jacksonville Cecil Field, FL [New]

Cecil Field, FL

(Lat. 30°13′07″ N., long. 81°52′36″ W.)

Cecil VOR

(Lat. 30°12′47″ N., long. 81°53′27″ W.)

That airspace extending upward from the surface of the Earth within 2.4 miles each side of the Cecil VOR 286 radial extending from the 4.3-mile radius to 7 miles west of the VOR. This Class E airspace area is effective during the specific days and times established in advance by a Notice to Airmen. The effective days and times will thereafter be continuously published in the Airport/Facility Directory.

* * * * *

Issued in College Park, Georgia, on March 27, 2008.
Mark D. Ward,
Manager, System Support Group, Eastern Service Center.

[FR Doc. E8-7669 Filed 4-14-08; 8:45 am]

BILLING CODE 4910-13-P